FEDERAL COMMUNICATIONS COMMISSION

Notice of Public Information Collection(s) Being Submitted for Review to the Office of Management and Budget

September 6, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 13, 2006. If you anticipate that you will be submitting PRA comments, but find it difficult to do so within the period of time allowed by this notice, you should advise the contact listed below as soon as possible.

ADDRESSES: Direct all Paperwork Reduction Act (PRA) comments to Judith B. Herman, Federal Communications Commission, Room 1-B441, 445 12th Street, SW., DC 20554 or via the Internet to PRA@fcc.gov. If you would like to obtain or view a copy of this information collection, you may do so by visiting the FCC PRA Web page at: http://www.fcc.gov/omd/pra.

FOR FURTHER INFORMATION CONTACT: For additional information or copies of the information collection(s), send an e-mail to PRA@fcc.gov or contact Judith B. Herman at 202-418-0214. If you would like to obtain or view a copy of this information collection, you may do so by visiting the FCC PRA Web page at: http://www.fcc.gov/omd/pra.

SUPPLEMENTARY INFORMATION: OMB Control No.: 3060-0947.

Title: Section 101.1327, Renewal Expectancy for EA Licensees.

Form No.: N/A.

Type of Review: Extension of a currently approved collection.

Respondents: Business or other for-profit.

Number of Respondents: 18,820.

Estimated Time per Response: .50-20 hours.

Frequency of Response: Every 10 year reporting requirement.

Total Annual Burden: 284,653 hours.

Total Annual Cost: $18,820.

Privacy Act Impact Assessment: N/A.

Needs and Uses: This collection will be submitted as an extension (no change in reporting requirement) after this 60 day comment period to Office of Management and Budget (OMB) in order to obtain the full three year clearance.

The information required by Section 101.1327 is used to determine whether a renewal applicant of a Multiple Address System has complied with the requirement to provide substantial service by the end of the ten-year license term. The FCC uses the information to determine whether the applicant's license will be renewed at the end of the license period.

OMB Control No.: 3060-0531.

Title: Local Multipoint Distribution Service (LMDS).

Form No.: N/A.

Type of Review: Revision of a currently approved collection.

Respondents: Business or other for-profit.

Number of Respondents: 423.

Estimated Time Per Response: .25-20 hours.

Frequency of Response: On occasion reporting requirement and third party disclosure requirement.

Total Annual Burden: 6,394 hours.

Total Annual Cost: $376,000.

Privacy Act Impact Assessment: N/A.

Needs and Uses: This collection will be submitted as a revision after this 60 day comment period to Office of Management and Budget (OMB) in order to obtain the full three year clearance.

The information requested in Parts 1, 2, and 101 of the Commission's rules establish rules and policies for Local Multipoint Distribution Service (LMDS). The information is used by the Commission staff in carrying out its duties to determine the technical, legal and other qualifications of applicants to operate and remain licensed to operate a station in the LMDS. Specifically, the frequency coordination information requested pursuant to Section 101.103 of the Commission's Rules is necessary to facilitate the rendition of communication service on an interference-free basis in each service area. The frequency coordination procedures ensure that LMDS applicants and licensees have the information necessary to cooperate in the selection and use of frequencies assigned in order to minimize interference and thereby obtain the most effective use of the spectrum. The information is also necessary for the Commission staff to resolve interference conflicts that cannot be settled between or among the affected applicants and licensees. For LMDS licensees seeking renewal, the information requested pursuant to Section 101.1011 of the Commission's Rules is necessary for the Commission staff to determine whether a licensee has provided sufficient evidence of substantial service during its license term and has substantially complied with the Communications Act and with applicable Commission rules and policies.

Federal Communications Commission.
Marlene H. Dortch,
Secretary.

[FR Doc. E6-15195 Filed 9-12-06; 8:45 am]

BILLING CODE 6712-01-P